DEPARTMENT OF AGRICULTURE

Forest Service

National Urban and Community Forestry Advisory Council

AGENCY: Forest Service, USDA.

ACTION: 2012 Notice call for nominations.

SUMMARY: The National Urban and Community Forestry Advisory Council, (NUCFAC) will be filling four positions that will expire at the end of December 2012. Interested applicants may download a copy of the application and position descriptions from the U.S. Forest Service's Urban and Community Forestry Web site: www.fs.fed.us/ucf/.

DATES: Nomination(s) must be “received” (not postmarked) by May 31, 2012.

ADDRESSES: Nomination applications by courier should be addressed to: Nancy Stremple, Executive Staff to National Urban and Community Forestry Advisory Council, 1400 Independence Avenue SW., Yates Building (1 Central) MS-1151, Washington, DC 20250-1151. Please submit electronic nomination(s) to: nucfac_ucf_proposals@fs.fed.us. The subject line should read: 2012 NUCFAC Nominations.

FOR FURTHER INFORMATION CONTACT: Nancy Stremple, Executive Staff to the National Urban and Community Forestry Advisory Council, 1400 Independence Avenue SW., Yates Building (1 Central) MS-1151, Washington, DC 20250-1151, phone 202-205-1054.

Individuals who use telecommunication devices for the deaf (TDD) may call the Federal Information Relay Service (FIRS) at 1-800-877-8339 between 8 a.m. and 8 p.m., Eastern Standard Time, Monday through Friday.

SUPPLEMENTARY INFORMATION: Facsimiles will not be accepted as official nominations. Email or courier service is recommended. Regular mail submissions must be screened by the agency and may delay the receipt of the application up to a month.

A total of four positions will be filled. The following four positions will serve a 3-year term from January 1, 2013, to December 31, 2015:

• One of two members representing a national non-profit forestry and/or conservation citizen organization;

• A member representing city/town government;

• One of two members representing academic institutions with an expertise in urban and community forestry activities;

• Not officers or employees of any government body with a population of less than 50,000 and has experience and is active in urban and community forestry.

Dated: April 16, 2012.
James E. Hubbard,
Deputy Chief, State & Private Forestry.

[FR Doc. 2012-9828 Filed 4-23-12; 8:45 am]

BILLING CODE 3410-11-P